DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Yavapai (FEMA Docket No.: B-2437). | City of Prescott (22-09-1249P). | The Honorable Phil Goode, Mayor, City of Prescott, 201 South Cortez Street, Prescott, AZ 86303. | Public Works Department, 433 North Virginia Street, Prescott, AZ 86301. | Jul. 31, 2024 | 040098
Yavapai (FEMA Docket No.: B-2437). | Unincorporated areas of Yavapai County (22-09-1249P). | James Gregory, Chair, Yavapai County Board of Supervisors, 1015 Fair Street, Prescott, AZ 86305. | Yavapai County Hall, 1015 Fair Street, Prescott, AZ 86305. | Jul. 31, 2024 | 040093
Arkansas:
Saline (FEMA Docket No.: B-2435). | City of Benton (23-06-1296P). | The Honorable Tom Farmer, Mayor, City of Benton, P.O. Box 607, Benton, AR 72018. | City Hall, 114 South East Street, Benton, AR 72015. | Jul. 25, 2024 | 050192
Saline (FEMA Docket No.: B-2435). | City of Bryant (23-06-1296P). | The Honorable Rhonda Sanders, Mayor, City of Bryant, 210 Southwest 3rd Street, Bryant, AR 72022. | City Hall, 210 Southwest 3rd Street, Bryant, AR 72022. | Jul. 25, 2024 | 050308
Colorado:
Larimer (FEMA Docket No.: B-2437). | City of Fort Collins (22-08-0636P). | The Honorable Jeni Arndt, Mayor, City of Fort Collins, P.O. Box 580, Fort Collins, CO 80522. | City Hall, 700 Wood Street, Fort Collins, CO 80521. | Jul. 24, 2024 | 080102
Larimer (FEMA Docket No.: B-2435). | City of Loveland (22-08-0336P). | The Honorable Jacki Marsh, Mayor, City of Loveland, 500 East 3rd Street, Suite 330, Loveland, CO 80537. | Public Works Department, 2525 West 1st Street, Loveland, CO 80537. | Aug. 5, 2024 | 080103
Larimer (FEMA Docket No.: B-2435). | Town of Timnath (23-08-0780P). | The Honorable Mark Soukup, Mayor, Town of Timnath, 4750 Signal Tree Drive, Timnath, CO 80547. | TST, Inc., 748 Whalers Way, Fort Collins, CO 80525. | Aug. 5, 2024 | 080005
Larimer (FEMA Docket No.: B-2435). | Unincorporated areas of Larimer County (22-08-0336P). | John Kefalas, Chair, Larimer County Board of Commissioners, P.O. Box 1190, Fort Collins, CO 80522. | Larimer County Courthouse, 200 West Oak Street, Suite 3000, Fort Collins, CO 80521. | Aug. 5, 2024 | 080101
Larimer (FEMA Docket No.: B-2437). | Unincorporated areas of Larimer County (22-08-0636P). | John Kefalas, Chair, Larimer County Board of Commissioners, P.O. Box 1190, Fort Collins, CO 80522. | Larimer County Courthouse, 200 West Oak Street, Suite 3000, Fort Collins, CO 80521. | Jul. 24, 2024 | 080101
Larimer (FEMA Docket No.: B-2435). | Unincorporated areas of Larimer County (23-08-0780P). | John Kefalas, Chair, Larimer County Board of Commissioners, P.O. Box 1190, Fort Collins, CO 80522. | Larimer County Courthouse, 200 West Oak Street, Suite 3000, Fort Collins, CO 80521. | Aug. 5, 2024 | 080101
Weld (FEMA Docket No.: B-2431). | City of Evans (22-08-0399P). | The Honorable Mark Clark, Mayor, City of Evans, 1100 37th Street, Evans, CO 80620. | City Hall, 1100 37th Street, Evans, CO 80620. | Jul. 22, 2024 | 080182
Weld (FEMA Docket No.: B-2431). | Unincorporated areas of Weld County (22-08-0399P). | Kevin Ross, Chair, Weld County Board of Commissioners, P.O. Box 758, Greeley, CO 80632. | Weld County Administrative Building, 1150 O Street, Greeley, CO 80631. | Jul. 22, 2024 | 080266
Florida:
Charlotte (FEMA Docket No.: B-2435). | Unincorporated areas of Charlotte County (23-04-5839P). | Bill Truex, Chair, Charlotte County Board of Commissioners, 18500 Murdock Circle, Suite 536, Port Charlotte, FL 33948. | Charlotte County Building Department, 18400 Murdock Circle, Port Charlotte, FL 33948. | Jul. 29, 2024 | 120061
Lake (FEMA Docket No.: B-2435). | Unincorporated areas of Lake County (24-04-0040P). | Jennifer Baker, Lake County Manager, 315 West Main Street, Tavares, FL 32778. | Lake County Public Works Department, 323 North Sinclair Avenue, Tavares, FL 32778. | Jul. 22, 2024 | 125106
Lee (FEMA Docket No.: B-2435). | City of Fort Myers (24-04-1196P). | Marty K. Lawing, Manager, City of Fort Myers, 2200 2nd Street, Fort Myers, FL 33901. | Building Department, 1825 Hendry Street, Fort Myers, FL 33901. | Jul. 22, 2024 | 125106
Orange (FEMA Docket No.: B-2435). | City of Belle Isle (23-04-6283P). | The Honorable Nicholas Fouraker, Mayor, City of Belle Isle, 1600 Nela Avenue, Belle Isle, FL 32809. | City Hall, 1600 Nela Avenue, Belle Isle, FL 32809. | Jul. 31, 2024 | 120181
Orange (FEMA Docket No.: B-2435). | City of Orlando (23-04-6283P). | The Honorable Buddy Dyer, Mayor, City of Orlando, 400 South Orange Avenue, Orlando, FL 32801. | Public Works Department, Engineering Division, 400 South Orange Avenue, Orlando, FL 32801. | Jul. 31, 2024 | 120186
Orange (FEMA Docket No.: B-2435). | Unincorporated areas of Orange County (23-04-6283P). | The Honorable Jerry L. Demings, Mayor, Orange County, 201 South Rosalind Avenue, 5th Floor, Orlando, FL 32801. | Orange County Public Works Department, Stormwater Management Division, 4200 South John Young Parkway, Orlando, FL 32839. | Jul. 31, 2024 | 120179
Sumter (FEMA Docket No.: B-2431). | Unincorporated areas of Sumter County (24-04-1005X). | Craig A. Estep, Chair, Sumter County Board of Commissioners, 7375 Powell Road, Wildwood, FL 34785. | Sumter County Administration Building, 7375 Powell Road, Wildwood, FL 34785. | Jul. 19, 2024 | 120296
Maine:
York (FEMA Docket No.: B-2437). | Town of Kennebunkport (24-01-0144P). | D. Michael Weston, Chair, Town of Kennebunkport Board of Selectmen, 6 Elm Street, Kennebunkport, ME 04046. | Planning and Code Enforcement Department, 6 Elm Street, Kennebunkport, ME 04046. | Jul. 18, 2024 | 230170
York (FEMA Docket No.: B-2431). | Town of Kittery (24-01-0142P). | Kendra Amaral, Manager, Town of Kittery, 200 Rogers Road, Kittery, ME 03904. | Planning and Development Department, 200 Rogers Road, Kittery, ME 03904. | Jul. 18, 2024 | 230171
York (FEMA Docket No.: B-2435). | Town of Wells (24-01-0143P). | John K. MacLeod III, Chair, Town of Wells Board of Selectmen, 208 Sanford Road, Wells, ME 04090. | Planning and Development Department, 208 Sanford Road, Wells, ME 04090. | Jul. 18, 2024 | 230158
Massachusetts: Essex (FEMA Docket No.: B-2435). | City of Gloucester (23-01-0783P). | The Honorable Greg Varga, Mayor, City of Gloucester, 9 Dale Avenue, Gloucester, MA 01930. | City Hall, 3 Pond Road, 2nd Floor, Gloucester, MA 01930. | Jul. 18, 2024 | 250082
Montana: Gallatin (FEMA Docket No.: B-2435). | Unincorporated areas of Gallatin County (23-08-0757P). | Scott McFarlane, Chair, Gallatin County Commission, 311 West Main Street, Room 306, Bozeman, MT 59715. | Gallatin County Courthouse, 311 West Main Street, Bozeman, MT 59715. | Jul. 31, 2024 | 300027
North Carolina:
Brunswick (FEMA Docket No.: B-2445). | Town of Leland (23-04-2026P). | The Honorable Brenda Bozeman, Mayor, Town of Leland, 102 Town Hall Drive, Leland, NC 28451. | Planning and Zoning Department, 102 Town Hall Drive, Leland, NC 28451. | Aug. 2, 2024 | 370471
Brunswick (FEMA Docket No.: B-2445). | Unincorporated areas of Brunswick County (23-04-2026P). | Randy Thompson, Chair, Brunswick County Board of Commissioners, P.O. Box 249, Bolivia, NC 28422. | Brunswick County Planning Department, 75 Courthouse Drive, Bolivia, NC 28422. | Aug. 2, 2024 | 370295
Buncombe (FEMA Docket No.: B-2445). | Unincorporated areas of Buncombe County (23-04-3408P). | Brownie Newman, Chair, Buncombe County Board of Commissioners, 200 College Street, Suite 300, Asheville, NC 28801. | Buncombe County Planning and Development Department, 46 Valley Street, Asheville, NC 28801. | Aug. 9, 2024 | 370031
Randolph (FEMA Docket No.: B-2431). | Unincorporated areas of Randolph County (23-04-2820P). | Darrell L. Frye, Chair, Randolph County Board of Commissioners, 725 McDowell Road, Asheboro, NC 27205. | Central Permitting Building, 204 East Academy Street, Asheboro, NC 27205. | Jul. 17, 2024 | 370195
Union (FEMA Docket No.: B-2431). | Unincorporated areas of Union County (23-04-3292P). | J.R. Rowell, Chair, Union County Board of Commissioners, 500 North Main Street, Suite 914, Monroe, NC 28112. | Union County Planning Department, 500 North Main Street, Suite 70, Monroe, NC 28112. | Jul. 15, 2024 | 370234
Wake (FEMA Docket No.: B-2431). | City of Raleigh (22-04-5283P). | The Honorable Mary-Ann Baldwin, Mayor, City of Raleigh, P.O. Box 590, Raleigh, NC 27601. | Engineering Services Department, 1 Exchange Plaza, Suite 706, Raleigh, NC 27601. | Jul. 29, 2024 | 370243
Wilkes (FEMA Docket No.: B-2445). | Town of Wilkesboro (23-04-2093P). | The Honorable Dale L. Isom, Mayor, Town of Wilkesboro, P.O. Box 1056, Wilkesboro, NC 28697. | Town Hall, 203 West Main Street, 2nd Floor, Wilkesboro, NC 28697. | Aug. 16, 2024. | 370259
Texas:
Bexar (FEMA Docket No.: B-2435). | City of San Antonio (23-06-2542P). | The Honorable Ron Nirenberg, Mayor, City of San Antonio, P.O. Box 839966, San Antonio, TX 78283. | Transportation and Capital Improvements Department, Stormwater Division, 1901 South Alamo Street, 2nd Floor, San Antonio, TX 78204. | Jul. 22, 2024 | 480045
Brazos (FEMA Docket No.: B-2431). | City of Bryan (24-06-0422P). | The Honorable Bobby Gutierrez, Mayor, City of Bryan, P.O. Box 1000, Bryan, TX 77805. | City Hall, 300 South Texas Avenue, Bryan, TX 77803. | Jul. 17, 2024 | 480082
Collin (FEMA Docket No.: B-2435). | City of Princeton (23-06-1094P). | The Honorable Brianna Chacón, Mayor, City of Princeton, 2000 East Princeton Drive, Princeton, TX 75407. | City Hall, 2000 East Princeton Drive, Princeton, TX 75407. | Aug. 5, 2024 | 480757
Comal (FEMA Docket No.: B-2435). | City of New Braunfels (23-06-2196P). | Robert Camareno, Manager, City of New Braunfels, 550 Landa Street, New Braunfels, TX 78130. | City Hall, 550 Landa Street, New Braunfels, TX 78130. | Jul. 25, 2024 | 485493
Dallas (FEMA Docket No.: B-2435). | Town of Sunnyvale (24-06-0020P). | The Honorable Saji George, Mayor, Town of Sunnyvale, 127 North Collins Road, Sunnyvale, TX 75182. | Town Hall, 127 North Collins Road, Sunnyvale, TX 75182. | Aug. 5, 2024 | 480188
Kaufman (FEMA Docket No.: B-2435). | City of Dallas (24-06-0020P). | T.C. Broadnax, Manager, City of Dallas, 1500 Marilla Street, Room 4EN, Dallas, TX 75201. | Stormwater Operations Department, 2245 Irving Boulevard, 2nd Floor, Dallas, TX 75207. | Aug. 5, 2024 | 480171
Kaufman (FEMA Docket No.: B-2435). | Unincorporated areas of Kaufman County (24-06-0020P). | The Honorable Jakie Allen, Kaufman County Judge, 1902 U.S. Highway 175, Kaufman, TX 75142. | Kaufman County Development Services Department, 106 West Grove Street, Kaufman, TX 75142. | Aug. 5, 2024 | 480411
Denton (FEMA Docket No.: B-2435). | City of Denton (23-06-1850P). | Sara Hensley, Manager, City of Denton, 215 East McKinney Street, Denton, TX 76201. | Development Services Center, 401 North Elm Street, Denton, TX 76201. | Aug. 5, 2024 | 480194
Denton (FEMA Docket No.: B-2435). | Town of Argyle (24-06-0041P). | The Honorable Rick Bradford, Mayor, Town of Argyle, P.O. Box 609, Argyle, TX 76226. | Town Hall, P.O. Box 609, Argyle, TX 76226. | Aug. 5, 2024 | 480775
Harris (FEMA Docket No.: B-2437). | City of Houston (23-06-1337P). | The Honorable John Whitmire, Mayor, City of Houston, P.O. Box 1562, Houston, TX 77251. | Floodplain Management Department, 1002 Washington Avenue, Houston, TX 77002. | Jul. 29, 2024 | 480296
Harris (FEMA Docket No.: B-2437). | Unincorporated areas of Harris County (23-06-1337P). | The Honorable Lina Hidalgo, Harris County Judge, 1001 Preston Street, Suite 911, Houston, TX 77002. | Harris County Permit Office, 1111 Fannin Street, 8th Floor, Houston, TX 77002. | Jul. 29, 2024 | 480287
McLennan (FEMA Docket No.: B-2435). | City of Waco (23-06-0341P). | The Honorable Dillon Meek, Mayor, City of Waco, P.O. Box 2570, Waco, TX 76702. | City Hall, 300 Austin Avenue, Waco, TX 76702. | Jul. 29, 2024 | 480461
Tarrant (FEMA Docket No.: B-2431). | City of Fort Worth (23-06-1364P). | The Honorable Mattie Parker, Mayor, City of Fort Worth, 200 Texas Street, Fort Worth, TX 76102. | Department of Transportation and Public Works, Engineering Vault and Map Repository, 200 Texas Street, Fort Worth, TX 76102. | Jul. 22, 2024 | 480596
Waller (FEMA Docket No.: B-2435). | City of Brookshire (23-06-1114P). | The Honorable Darrell Branch, Mayor, City of Brookshire, P.O. Box 160, Brookshire, TX 77423. | City Hall, 4029 5th Street, Brookshire, TX 77423. | Jul. 25, 2024 | 481097
Williamson (FEMA Docket No.: B-2431). | City of Cedar Park (23-06-1438P). | The Honorable Jim Penniman-Morin, Mayor, City of Cedar Park, 450 Cypress Creek Road, Building 1, Cedar Park, TX 78613. | City Hall, 450 Cypress Creek Road, Building 1, Cedar Park, TX 78613. | Jul. 22, 2024 | 481282
Utah:
Salt Lake (FEMA Docket No.: B-2435). | City of Holladay (23-08-0730P). | The Honorable Robert M. Dahle, Mayor, City of Holladay, 4580 South 2300 East, Holladay, UT 84117. | Department of Community Development, 4580 South 2300 East, Holladay, UT 84117. | Aug. 5, 2024 | 490253
Salt Lake (FEMA Docket No.: B-2435). | City of Millcreek (23-08-0730P). | The Honorable Jeff Silvestrini, Mayor, City of Millcreek, 1330 East Chambers Avenue, Millcreek, UT 84106. | Planning and Zoning Department, 1330 East Chambers Avenue, Millcreek, UT 84106. | Aug. 5, 2024 | 490231
Washington (FEMA Docket No.: B-2435). | City of St. George (24-08-0001P). | The Honorable Michele Randall, Mayor, City of St. George, 175 East 200 North, St. George, UT 84770. | City Hall, 175 East 200 North, St. George, UT 84770. | Jul. 29, 2024 | 490117
West Virginia:
Jefferson (FEMA Docket No.: B-2431). | City of Charles Town (23-03-0716P). | The Honorable Bob Trainor, Mayor, City of Charles Town, 101 East Washington Street, Charles Town, WV 25414. | Planning and Zoning Division, 101 East Washington Street, Charles Town, WV 25414. | Jul. 18, 2024 | 540066
Jefferson (FEMA Docket No.: B-2431). | Unincorporated areas of Jefferson County (23-03-0716P). | Steve Stolipher, President, Jefferson County Commission, P.O. Box 250, Charles Town, WV 25414. | Jefferson County Department of Engineering, 116 East Washington Street, Suite 200, Charles Town, WV 25414. | Jul. 18, 2024 | 540065

[FR Doc. 2024-20658 Filed 9-11-24; 8:45 am]

BILLING CODE 9110-12-P